DEPARTMENT OF HOMELAND SECURITY

Coast Guard

33 CFR Part 165

[Docket Number USCG-2019-0132]

RIN 1625-AA00

Safety Zones; Annual Safety Zones in the Captain of the Port Detroit Zone

AGENCY: Coast Guard, DHS.

ACTION: Final rule.

SUMMARY: The Coast Guard is updating its recurring safety zones regulations in the Captain of the Port Detroit. This rule updates 51 safety zones locations, dates, and sizes, adds three safety zones, removes six established safety zones, and reformats the regulations into an easier to read table format. These amendments will protect spectators, participants, and vessels from the hazards associated with annual marine events and firework shows, and improve the clarity and readability of the regulation.

DATES: This rule is effective June 7, 2019.

ADDRESSES: To view documents mentioned in this preamble as being available in the docket, go to http://www.regulations.gov, type USCG-2019-0132 in the “SEARCH” box and click “SEARCH.” Click on Open Docket Folder on the line associated with this rule.

FOR FURTHER INFORMATION CONTACT: If you have questions on this rule, call or email Tracy Girard, Prevention Department, Sector Detroit, Coast Guard; telephone (313) 568-9564, email Tracy.M.Girard@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On March 25, 2019 the Coast Guard published an NPRM in the Federal Register (83 FR 52333) entitled “Safety Zones; Annual Safety Zones in the Captain of the Port Detroit Zone.” The NPRM proposed to update the safety zones in § 165.941 to ensure accuracy of times, dates, and dimensions for various triggering and marine events that are expected to be conducted within the Captain of the Port Detroit Zone throughout the year. The purpose of the rulemaking is also to ensure vessels and persons are protected from the specific hazards related to the aforementioned events. These specific hazards include obstructions in the waterway that may cause marine casualties; collisions among vessels maneuvering at a high speed within a channel; the explosive dangers involved in pyrotechnics and hazardous cargo; and flaming/falling debris into the water that may cause injuries.

Included in the NPRM was an invitation to make comments on the proposed regulatory action for updating the safety zones in § 165.941. During the comment period that ended April 25, 2019, the Coast Guard received no comments.

III. Legal Authority and Need for Rule

The Coast Guard is issuing this rule under authority in 46 U.S.C. 70034, 70051, 33 CFR 1.05.1, 6.04-1, 6.04-6, and 160.5; Department of Homeland Security Delegation No. 0170.1. The Captain of the Port Detroit (COTP) has determined these regulations are necessary to ensure vessels and persons are protected from the specific hazards related to the aforementioned events. These specific hazards include obstructions in the waterway that may cause marine casualties; collisions among vessels maneuvering at a high speed within a channel; the explosive dangers involved in pyrotechnics and hazardous cargo; and flaming/falling debris into the water that may cause injuries. Therefore, the COTP is establishing a safety zone around the event locations listed in the table under § 165.941 to help minimize risks to safety of life and property during this event.

IV. Discussion of Comments, Changes, and the Rule

As noted above, we received no comments on our NPRM published March 25, 2019. There are no changes in the regulatory text of this rule from the proposed rule in the NPRM.

This rule updates 51 safety zone locations, dates, and sizes, adds three safety zones, removes six established safety zones and reformat the regulations into an easier to read table format. These amendments will protect spectators, participants, and vessels from the hazards associated with annual marine events and firework shows, and improve the clarity and readability of the regulation.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, the rule has not been reviewed by the Office of Management and Budget (OMB), and pursuant to OMB guidance it is exempt from the requirements of Executive Order 13771.

This regulatory action determination is based on the size, location, duration, and time of day of the safety zones. The safety zones created by this rule will be relatively small and effective during the time to ensure safety of spectator and participants for the listed triggering or marine events. Moreover, the Coast Guard will issue a Broadcast Notice to Mariners via VHF-FM about the zone, and the rule will allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section IV.A above, this rule will not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Public Law 104-121), we want to assist small entities in understanding this rule. If the rule would affect your small business, organization, or governmental jurisdiction and you have questions concerning its provisions or options for compliance, please contact the person listed in the FOR FURTHER INFORMATION CONTACT section. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01 and Commandant Instruction M16475.1D, which guide the Coast Guard in complying with the National Environmental Policy Act of 1969 (42 U.S.C. 4321-4370f), and have determined that this action is one of a category of actions that do not individually or cumulatively have a significant effect on the human environment. This rule updates 51 safety zone locations, dates, and sizes, adds three safety zones, removes six established safety zones and reformat the regulations into an easier to read table format. It is categorically excluded from further review under paragraph L[60] of Appendix A, Table 1 of DHS Instruction Manual 023-01-001-01, Rev. 01. A Record of Environmental Consideration supporting this determination is available in the docket where indicated under ADDRESSES.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR 165.941 as follows:

PART 165—REGULATION NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

2. Revise § 165.941 to read as follows:

§ 165.941 Safety Zones; Annual Events in the Captain of the Port Detroit Zone.

(a) Regulations. The following regulations apply to the safety zones listed in Table 1 to § 165.941 of this section, coordinates listed in table are North American Datum of 1983 (NAD 83).

(1) In accordance with the general regulations in § 165.23 of this part, entry into, transiting, or anchoring within any of the safety zones listed in this section is prohibited unless authorized by the Captain of the Port Detroit or a designated representative.

(2) These safety zones are closed to all vessel traffic, except as may be permitted by the Captain of the Port Detroit or his designated on-scene representative.

(3) Vessel operators desiring to enter or operate within the safety zone must contact the Captain of the Port Detroit or an on-scene representative to obtain permission to do so. The Captain of the Port Detroit or an on-scene representative may be contacted via VHF Channel 16. Vessel operators given permission to enter or operate in the safety zone must comply with all directions given to them by the Captain of the Port Detroit, or an on-scene representative.

(4) The enforcement dates and times for each of the safety zones listed in Table 1 to § 165.941 are subject to change, but the duration of enforcement would remain the same or nearly the same total number of hours as stated in the table. In the event of a change, the Captain of the Port Detroit will provide notice to the public by publishing a Notice of Enforcement in the Federal Register, as well as, issuing a Broadcast Notice to Mariners.

(b) Definitions. The following definitions apply to this section:

(1) Designated or on scene representative means any Coast Guard commissioned, warrant, or petty officers designated by the Captain of the Port Detroit to monitor a safety zone, permit entry into a safety zone, give legally enforceable orders to persons or vessels within a safety zone, and take other actions authorized by the Captain of the Port Detroit.

(2) Public vessel means a vessel that is owned, chartered, or operated by the United States, or by a State or political subdivision thereof.

(3) Rain date refers to an alternate date and/or time in which the safety zone would be enforced in the event of inclement weather.

(c) Suspension of enforcement. The Captain of the Port Detroit may suspend enforcement of any of these zones earlier than listed in this section. Should the Captain of the Port suspend any of these zones earlier than the listed duration in this section, he or she may make the public aware of this suspension by Broadcast Notice to Mariners and/or on-scene notice by a designated representative.

(d) Exemption. Public vessels, as defined in paragraph (b) of this section, are exempt from the requirements in this section.

(e) Waiver. For any vessel, the Captain of the Port Detroit or a designated representative may waive any of the requirements of this section upon finding that operational conditions or other circumstances are such that application of this section is unnecessary or impractical for the purposes of safety or security.

Table 1 to § 165.941
[COTP Zone Detroit]
Event | Sector Detroit safety zones | Date
(1) Shoreline Surrounding Belle Isle Auto Race Detroit, MI | All waters of the Detroit River near Belle Isle, bounded by a line extending from a point of land on the southern shore of Belle Isle located at the Dossin Museum at position 42°20.06′ N, 082°59.14′ W, to 50 yards offshore at position 42°20.04′ N, 082°59.13′ W, and continuing around the downstream (western) end of Belle Isle, maintaining a constant distance of 50 yards from the shoreline to position 42°20.25′ N, 083°00.04′ W, 50 yards NNW of the Lake Tacoma outlet on the northern side of Belle Isle, before returning to a point on shore and terminating at position 42°20.23′ N; 083°00.03′ W | Three consecutive days between May 15 and June 15.
(2) Grosse Point War Memorial Red, White and Blue Gala Fireworks Grosse Pointe Farms, MI | All waters of Lake St. Clair, within a 200-yard radius of the fireworks launch site located on a barge offshore of Grosse Pointe War Memorial at approximate position 42°23.13′ N, 082°53.74′ W | One evening in May.
(3) Bay-Rama Fish Fly Festival Fireworks New Baltimore, MI | All waters of Anchor Bay, Lake St. Clair, within a 300-yard radius of the fireworks launch site located on a barge offshore of New Baltimore City Park at approximate position 42°40.6′ N, 082°43.9′ W | One evening in June.
(4) Sigma Gamma Fireworks Grosse Pointe Farms, MI | All waters of Lake St. Clair, within a 200-yard radius of the fireworks launch site located on a barge anchored offshore of Ford's Cove at position 42°27.2′ N, 082°51.9′ W | One evening between June 15 and July 15.
(5) River Days Airshow Detroit, MI | All waters of the Detroit River between the following two lines extending from 70 feet off the bank to the US/Canadian demarcation line: the first line is drawn directly across the channel at position 42°19.444′ N, 083° 03.114′ W; the second line, to the north, is drawn directly across the channel at position 42°19.860′ N, 083°01.683′ W | Four consecutive days in June or July.
(6) Detroit Fireworks Detroit, MI | The following three areas are safety zones: (A) All U.S. waters of the Detroit River a 300-yard radius centered on a point on shore adjacent to West Riverfront Park, Detroit, MI at position 42°19.38′ N, 083°03.43′ W. (B) The second safety zone area will encompass a portion of the Detroit River bounded on the South by the International Boundary line, on the West by 083°03′ W, on the North by the City of Detroit shoreline and on the East by 083°01′ W. (C) The third safety zone will encompass a portion of the Detroit River bounded on the South by the International Boundary line, on the West by the Ambassador Bridge, on the North by the City of Detroit shoreline, and on the East by the downstream end of Belle Isle. The Captain of the Port Detroit has determined that vessels below 65 feet in length may enter this zone | Three consecutive days beginning in June.
(7) Algonac Fireworks Algonac, MI | All waters of the St. Clair River, within a 250-yard radius of the fireworks launch site located on a barge anchored mid-channel, off of Algonac City Park at position 42°37.1′ N, 082°31.3′ W | Two consecutive evening between June 15 and July 15.
(8) Bay City Festival, Bay City, MI | All waters of the Saginaw River from the Veterans Memorial Bridge, Bay City, MI, located at position 43°35.9′ N, 083°53.6′ W; south approximately 1100 yards to the River Walk Pier, located at position 43°35.3′ N, 083°53.8′ W | Three consecutive evenings between June 15 and July 15.
(9) Caseville Fireworks Caseville, MI | All waters of Saginaw Bay, within a 200-yard radius of the fireworks launch site located at the end of the Caseville break wall at position 43°56.86′ N, 083°17.1′ W | One evening between June 15 and July 15.
(10) Ecorse Fireworks Ecorse, MI | All waters of the Detroit River, within a 200-yard radius of the fireworks launch site located at the north end of the Trenton Channel at position 42°14.53′ N, 083°08.48′ W | One evening between June 15 and July 15.
(11) Grosse Ile Fireworks Grosse Ile, MI | All waters of the Detroit River within a 100-yard radius of the fireworks launch site located on the outer pier of the Grosse Ile Yacht Club at position 42°05.39′ N, 083°09.06′ W | One evening between June 15 and July 15.
(12) Grosse Pointe Farms Fireworks Grosse Pointe Farms, MI | All waters of Lake St. Clair, within a 200-yard radius of the fireworks launch site located on shore at the southern point of a private park at position 42°23.84′ N, 082°53.25′ W | One evening between June 15 and July 15.
(13) Grosse Point Yacht Club Fireworks Grosse Pointe Shores, MI | All waters of Lake St. Clair within a 200-yard radius of the fireworks launch site located on a barge offshore of the Grosse Pointe Yacht Club break wall at position 42°26.05′ N, 082°52.05′ W | One evening between June 15 and July 15.
(14) Harbor Beach Fireworks Harbor Beach, MI | All waters of Lake Huron within a 200-yard radius of the fireworks launch site located on shore at the end of the DTE Power Plant at position 43°50.77′ N, 082°38.63′ W | One evening in June or July.
(15) Belle Maer Harbor Fireworks Harrison Twp, MI | All waters of Lake St. Clair within a 300-yard radius of the fireworks launch site located on a barge offshore of the Belle Maer Harbor break wall at position 42°36.55′ N, 082°47.55′ W | One evening between June 15 and July 15.
(16) Harrisville Fireworks Harrisville, MI | All waters of Lake Huron within a 200-yard radius of the fireworks launch site located at the end of the Harrisville Harbor break wall at position 44°39.40′ N, 083°17.03′ W | One evening between June 15 and July 15.
(17) Lexington Fireworks Lexington, MI | All waters of Lake Huron within a 200-yard radius of the fireworks launch site located at the end of the Lexington break wall at position 43°16.00′ N, 082°31.36′ W | One evening between June 15 and July 15.
(18) Oscoda Fireworks Oscoda, MI | All waters of Lake Huron within a 200-yard radius of the fireworks launch site located at the end of the Oscoda Beach Park pier at position 44°25.27′ N, 083°19.48′ W | One evening between June 15 and July 15.
(19) Port Austin Fireworks Port Austin, MI | All waters of Lake Huron within a 200-yard radius of the fireworks launch site located on the Port Austin break wall at position 44°03.08′ N, 082°59.40′ W | One evening between June 15 and July 15.
(20) Port Sanilac Fireworks Port Sanilac, MI | All waters of Lake Huron within a 200-yard radius of the fireworks launch site located on the south break wall of Port Sanilac Harbor at position 43°25.84′ N, 082°32.15′ W | One evening between June 15 and July 15.
(21) St. Clair Fireworks St. Clair, MI | All waters of the St. Clair River, within a 200-yard radius of the fireworks launch site located on a barge offshore of St. Clair, MI, at position 42°49.38′ N, 082°29.0′ W | One evening between June 15 and July 15.
(22) St. Clair Shores Fireworks St. Clair Shores, MI | All waters of Lake St. Clair within a 250-yard radius of the fireworks launch site located on a barge anchored offshore of Veterans Memorial Park at approximate position 42°31.6′ N, 082°52.0′ W | One evening between June 15 and July 15.
(23) Tawas Fireworks Tawas, MI | All waters of Lake Huron within a 200-yard radius of the fireworks launch site located on a barge offshore of East Tawas City Park at approximate position 44°16.4′ N, 083°29.7′ W | One evening between June 15 and July 15.
(24) Arenac Fireworks, Au Gres, MI | All waters of Saginaw Bay within a 700-foot radius of the fireworks launch site located at position 44°1.4′ N, 083°40.4′ W. This area is located at the end of the pier near the end of Riverside Drive in Au Gres, MI | One evening between June 15 and July 15.
(25) Port Huron Fireworks Port Huron, MI | All waters of the Black River within a 300-yard radius of the fireworks barge located at position 42°58′ N, 082°25′ W. This position is located 300 yards east of 223 Huron Ave., Black River | One evening between June 15 and July 15.
(26) Old Club Fireworks, Harsens Island, MI | All waters of Lake St. Clair within an 850-foot radius of the fireworks launch site located at position 42°32.4′ N, 082°40.1′ W. This area is located near the southern end of Harsens Island, MI | One evening between June 15 and July 15.
(27) Port Huron Blue Water Festival Fireworks Port Huron, MI | All waters of the St. Clair River within a 200-yard radius of the fireworks launch site located on shore at the northern point of Kiefer Park at approximate position 42°58.84′ N, 082°25.20′ W | One evening in July.
(28) Detroit Symphony Orchestra Fireworks Grosse Pointe Shores, MI | All waters of Lake St. Clair, within a 200-yard radius of the fireworks launch site located on a barge anchored offshore of Ford's Cove at position 42°27.25′ N, 082°51.95′ W | Two consecutive evenings between July 1 and July 31.
(29) Trenton Fireworks Trenton, MI | All waters of the Detroit River within a 300-yard radius of the fireworks barge located at position 42°09′ N, 083°10′ W. This position is located 200 yards east of Trenton in the Trenton Channel near Trenton, MI | One evening between July 1 and July 31.
(30) Venetian Festival Fireworks | All waters of Lake St. Clair within a 300-yard radius of the fireworks barge located at position 42°28′ N, 082°52′ W. This position is located 600 yards off Jefferson Beach Marina, Lake St, Clair | One evening in August.
(31) Cheeseburger Festival Fireworks, Caseville, MI | All waters of Lake Huron within a 300-foot radius of the fireworks launch site located at position 43°56.9′ N, 083°17.2′ W. This area is located near the break wall located at Caseville County Park, Caseville, MI | One evening in August.
(32) Roostertail Fireworks Detroit, MI | All waters of the Detroit River within a 200-yard radius of the fireworks launch site located on a barge anchored offshore of Roostertail at position 42°21.27′ N, 082°58.36′ W | Three separate evenings between June 15 and September 31.
(33) Marine City Maritime Days Fireworks Marine City, MI | All waters of the St. Clair River within a 200-yard radius of the fireworks launch site located on a barge offshore of Marine City Park at position 42°43.15′ N, 082°29.2′ W | One evening between July 15 and August 15.
(34) Detroit International Jazz Festival Fireworks Detroit, MI | All waters of the St. Clair River within a 100 yard radius of the fireworks launch site located at position 42°42.9′ N, 082°29.1′ W. This area is located east of Marine City | One evening between August 15 and September 15.
Event | Marine Safety Unit Toledo Safety Zones | Date
(35) Washington Township Summerfest Fireworks Toledo, OH | All waters of the Ottawa River within a 600-foot radius of the fireworks launch site located on the Fred C. Young bridge at position 41°43.29′ N, 083°28.47′ W | One evening between June 15 and July 15.
(36) Put-In-Bay 4th of July Fireworks Put-In-Bay, OH | All waters of Lake Erie within a 1000-foot radius of the fireworks launch site located in Put-In-Bay Harbor at position 41°39.7′ N, 082°48.0′ W | One evening between June 15 and July 15.
(37) Toledo Country Club Memorial Celebration and Fireworks Toledo, OH | All waters of the Maumee River within a 250-yard radius of the fireworks launch site located on shore on the Toledo Country Club's 18th Green at position 41°35.37′ N, 083°35.5′ W | One evening between May 15 and May 31.
(38) Freedom Festival Luna Pier, MI | All waters of Lake Erie within a 300-yard radius of the fireworks launch site located on the Clyde E. Evens Municipal Pier at position 41°48.39′ N, 083°26.20′ W | One evening between June 15 and July 15.
(39) Toledo Country Club 4th of July Fireworks Toledo, OH | All waters of the Maumee River within a 250-yard radius of the fireworks launch site located on shore on the Toledo Country Club's 18th Green at position 41°35.37′ N, 083°35.5′ W | One evening between June 15 and July 15.
(40) Lakeside July 4th Fireworks Lakeside, OH | All waters of Lake Erie within a 200-yard radius of the fireworks launch site located on the Lakeside Association Dock at position 41°32.52′ N, 082°45.03′ W | One evening between June 15 and July 15.
(41) Catawba Island Club Fireworks Catawba Island, OH | All waters of Lake Erie within a 300-yard radius of the fireworks launch site located on the northwest end of the Catawba Cliffs Harbor Light Pier at position 41°34.18′ N, 082°51.18′ W | One evening between June 15 and July 15.
(42) Red, White and Blues Bang Fireworks Huron, OH | All waters of the Huron River within a 300-yard radius of the fireworks launch site located on the Huron Ore Docks at position 41°23.29′ N, 082°32.55′ W | One evening in July.
(43) Huron Riverfest Fireworks Huron, OH | All waters of the Huron River within a 350-yard radius of the fireworks launch site located on the Huron Ore Docks at position 41°23.38′ N, 082°32.59′ W | One evening in July.
(44) End of Season Fireworks Lakeside, OH | All waters of Lake Erie within a 200-yard radius of the fireworks launch site located on the Lakeside Association Dock at position 41°32.52′ N, 082°45.03′ W | One evening between September 1 and September 15.
(45) Annual Labor Day Weekend Fireworks Show Catawba Island, OH | All waters of Lake Erie within a 300-yard radius of the fireworks launch site located on the northwest end of the Catawba Cliffs Harbor Light Pier at position 41°34.3′ N, 082°51.3′ W | One evening between September 1 and September 15.
(46) Toledo July 4th Fireworks Toledo, OH | All waters of the Maumee River within a 300-yard radius of the fireworks launch site located in International Park, Toledo, OH, at position 41°38.44′ N, 083°31.49′ W | One evening between June 15 and July 15.
(47) Memorial Day Weekend Fireworks Show Catawba Island, OH | All waters of Lake Erie within a 300-yard radius of the fireworks launch site located on the northwest end of the Catawba Cliffs Harbor Light Pier at position 41°34.18′ N, 082°51.18′ W | One evening between May 15 and May 31.
(48) Put-In-Bay Chamber of Commerce Fireworks Put-In-Bay, OH | All waters of Lake Erie within a 350-yard radius of the fireworks launch site located in Put-In-Bay Harbor at position 41°39.3′ N, 082°49.0′ W | Two separate evenings between June 15 and June 31, and two separate evenings between September 1 and September 15.
(49) Bay Point Fireworks Display Marblehead, OH | All waters of Lake Erie within a 250-yard radius of the fireworks launch site located on shore in the vicinity of Bay Point, Marblehead, OH, at position 41°30.3′ N, 082°43.1′ W | One evening between June 15 and July 15.
(50) LAZ Trommler Fireworks Marblehead, OH | All waters of the Sandusky Bay within a 500 foot radius of the fireworks launch site located at position 41°30′16″ N, 083°48′08″ W | One evening between June 15 and July 15.
(51) Downtown Sandusky Fireworks Sandusky, OH | All waters of the Sandusky Bay within a 280-foot radius of the fireworks launch site located at position 41°27′32.74″ N, 082°42′ 52.02″ W | One evening between December 31 and January 1.

Dated: May 1, 2019.
Jeffrey W. Novak,
Captain, U. S. Coast Guard, Captain of the Port Detroit.

[FR Doc. 2019-09408 Filed 5-7-19; 8:45 am]

BILLING CODE 9110-04-P